DEPARTMENT OF TRANSPORTATION

Federal Aviation Administration

[Docket No. FAA-2005-22679; Notice No. 05-09]

Guidance on Aircraft Noise Certification Documents for International Flights

AGENCY: Federal Aviation Administration, DOT.

ACTION: Notice of availability; request for comments.

SUMMARY: The FAA is notifying operators of a proposed advisory circular entitled “Guidance on Aircraft Noise Certification Documents for International Flights.” This advisory circular (AC) is in response to the International Civil Aviation Organization (ICAO) adoption of three acceptable options for managing noise certification documents. This AC offers guidance to affected operators on aircraft noise certification documentation they may choose to carry on board the aircraft that fly to a foreign country. This AC is designed to assist operators in preparing noise certification documents that may be requested by foreign authorities or airports. A suggested document format for operators to present noise certification documentation is provided.

DATES: Send your comments on or before December 13, 2005.

ADDRESSES: Address your comments to the Docket Management System, U.S. Department of Transportation, Room Plaza 401, 400 Seventh Street, SW., Washington, DC 20590-0001. You must identify the docket number FAA-2005-22679 at the beginning of your comments, and you should submit two copies of your comments. If you wish to receive confirmation that FAA received your comments, include a self-addressed, stamped postcard.

You may also submit comments through the Internet to http://dms.dot.gov. You may review the public docket containing comments to this notice in person in the Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Laurette Fisher, Office of Environment and Energy (AEE-100), Federal Aviation Administration, 800 Independence Avenue, SW., Washington, DC 20591; telephone (202) 267-3561; facsimile (202) 267-5594.

Request for Comment

The FAA is seeking comment on the following proposed AC, “Guidance on Aircraft Noise Certification Documents for International Flights.” The FAA encourages all affected operators to participate in this process by commenting on this proposed AC. Comments received in response to this request will be considered in the preparation of the final AC.

Issued in Washington DC on October 5, 2005.
Paul R. Dykeman,
Deputy Director of Environment and Energy.

[FR Doc. 05-20635 Filed 10-13-05; 8:45 am]

BILLING CODE 4910-13-P